POSTAL SERVICE

39 CFR Part 111

Post Office Box Fee Refund

AGENCY: Postal Service™.

ACTION: Final rule.

SUMMARY: The Postal Service is amending Mailing Standards of the United States Postal Service, Domestic Mail Manual (DMM®) to clarify the refund policy for customers who qualified for a Group “E” (free) Post Office Box™. The Postal Service is also making an amendment for consistency with refund standards.

DATES: Effective March 1, 2023.

FOR FURTHER INFORMATION CONTACT: Phong T. Quang at (202) 268-2857 or Garry Rodriguez at (202) 268-7281.

SUPPLEMENTARY INFORMATION: On December 13, 2022, the Postal Service published a notice of proposed rulemaking (87 FR 76170-76171) to clarify the refund policy for customers who qualified for a Group “E” (free) P.O. Box. The Postal Service did not receive any customer comments.

To ensure uniform treatment of customers who were not provided Group E P.O. Box service, the Postal Service is providing a refund policy if it has been determined that a customer paying for P.O. Box service is entitled to Group E P.O. Box service. A refund of prorated fees may be issued for each full consecutive month preceding the determination, up to a maximum of 24 months. Interest will not be paid on the amount refunded.

The Postal Service is also making a minor revision to the text in subsection 508.4.5.2c for clarity in the standard and in subsection 604.9.0 to establish a link to the P.O. Box fee refund standards in subsection 508.4.6.

We believe the proposed revisions will provide customers with a more efficient mailing experience.

The Postal Service adopts the following changes to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Services

* * * * *

508 Recipient Services

* * * * *

4.0 Post Office Box Service

* * * * *

4.5 Fee Group Assignments

* * * * *

4.5.2 Fee Group E—Free P.O. Box Service

Customers may qualify for Group E (free) P.O. Box service at a Post Office if their physical address location meets all of the following criteria:

* * * * *

[Revise the first sentence of item c to read as follows:]

c. USPS does not provide carrier delivery to a mail receptacle at or near a physical address for reasons other than those in 4.5.3b. * * *

* * * * *

4.6 Fee Refund

* * * * *

[Add new 4.6.3 to read as follows:]

4.6.3 Group E P.O. Box Service Fee Refund

If a postmaster determines that a customer paying for P.O. Box service was entitled to Group E (free) P.O. Box service under 4.5.2, a refund of prorated fees may be issued for each full consecutive month preceding the determination, up to a maximum of 24 months. Interest is not paid on the amount refunded.

* * * * *

600 Basic Standards for All Mailing Services

* * * * *

604 Postage Payment Methods and Refunds

* * * * *

9.0 Exchanges and Refunds

* * * * *

[Add new 9.6 to read as follows:]

9.6 Post Office Box Fee Refunds

Fee refunds for P.O. Box service are provided under 508.4.6.

* * * * *

Tram T. Pham,
Attorney, Ethics and Legal Compliance.

[FR Doc. 2023-01350 Filed 1-24-23; 8:45 am]

BILLING CODE P